OFFICE OF SCIENCE AND TECHNOLOGY POLICY

National Science and Technology Council; Committee on Science; Interagency Working Group on the Physics of the Universe

ACTION: Notice of open meeting.

SUMMARY: This notice announces a workshop sponsored by the National Science and Technology Council/Committee on Science/Interagency Working Group on the Physics of the Universe to discuss the emerging field of High Energy Density Physics.

DATES and ADDRESSES: The Interagency Working Group will hold one three-day workshop on Monday, May 24, 2004, 8:30 a.m. to 5:30 p.m. (EDT); Tuesday, May 25, 2004, 9 a.m. to 5 p.m.; and Wednesday, May 26, 2004, 8:30 a.m. to 3 p.m. All sessions of the workshop will be held at the Marriott Gaithersburg Washingtonian Center, 9751 Washingtonian Boulevard, Gaithersburg, Maryland 20878, USA.

FOR FURTHER INFORMATION CONTACT: For information regarding this Notice, please contact Michael Holland, Office of Science and Technology Policy. Telephone: (202) 456-6069. Email: mholland@ostp.eop.gov.

SUPPLEMENTARY INFORMATION: The workshop is being held to solicit input to the Interagency Working Group (IWG) on the Physics of the Universe about scientific opportunities in the emerging area of High Energy Density Physics (HEDP). This topic was featured in a recent National Science and Technology Council (NSTC) report, A 21st Century Frontier for Discovery: Physics of the Universe (available at http://www.ostp.gov), and in three other recent reports:

• Connecting Quarks with the Cosmos: Eleven Science Questions for the New Century, National Research Council, 2003;

• Frontiers in High Energy Density Physics: The X-Games of Contemporary Science, National Research Council, 2003 (both are available through http://www7.nationalacademies.org/bpa/BPA_Reports.html); and

• The Science and Applications of Ultrafast, Ultraintense Lasers: Opportunities in Science and Technology Using the Brightest Light Known to Man, Report on the SAUUL Workshop, June 17-19, 2002 (available at http://www.sc.doe.gov/production/bes/chm/Publications/SAUUL_report_final.pdf).

Purpose of the Workshop: The purpose of the workshop is to explore scientific opportunities and challenges within the emerging field of HEDP. A group of discussants, led by the workshop chairman Professor Ronald Davidson of Princeton University, will collect input and individual opinions on scientific opportunities within the field, their importance, technical barriers, and associated milestones. The group of discussants will be divided into four areas of scientific expertise, each with a rapporteur, to record technical discussions, collate presentations, and write a workshop summary. The four areas of scientific expertise are: A—HEDP in Astrophysical Systems, B—Beam-Induced HEDP (RHIC, heavy ion fusion, high-intensity accelerators, etc.), S—HEDP in Stockpile Stewardship Facilities (Omega, Z, National Ignition Facility, etc.), and U—Ultrafast, Ultraintense Laser Science.

The IWG will then use the workshop summary to develop proposed near-term scientific goals and milestones for the field along with proposed recommendations for a set of phased priorities. The IWG will then announce its list of scientific goals, milestones and phased priorities for public comment in a subsequent Federal Register notice. The goals, milestones, and priorities posted for comment will not recommend any specific funding targets nor present any specific recommendations regarding funding initiatives.

Federal scientists and agency representatives are encouraged to participate in workshop discussions. Both federal and non-federal employees may make presentations at the workshop. Members of the discussants group may serve as discussion mediators and facilitators in general and breakout sessions. Professor Davidson, the workshop's chairman, will conduct the meeting to facilitate the orderly conduct of business. Public comment will follow the 10-minute rule.

Tentative Agenda: Agenda will include discussions of the following:

Monday, May 24, 2004

• Introductory statements and presentation of workshop charge by Federal Program representatives.

• Presentations framing opportunities for discovery in the following scientific areas:

◦ A—HEDP in Astrophysical Systems.

◦ B—Beam-Induced HEDP (RHIC, heavy ion fusion, high-intensity accelerators, etc.).

◦ S—HEDP in Stockpile Stewardship Facilities (Omega, Z, National Ignition Facility, etc.).

◦ U—Ultrafast, Ultraintense Laser Science.

• Public Comments (10-minute rule).

Tuesday, May 25, 2004

• Break-out sessions: Discussions of issues and scientific opportunities in each of the four areas (A, B, S, and U).

• Public comments (10-minute rule).

Wednesday, May 26, 2004

• Reports from the Break-Out Sessions: Summary and discussion by the rapporteur of the comments and issues identified in each breakout area (A, B, S, and U).

Public Participation: All sessions of the workshop are free and open to the public. Although there is no registration fee, we would appreciate it if you would pre-register by sending your name, title, organization, postal address, telephone number, and e-mail address to Dr. Ronald H. McKnight, the meeting contractor, at rmcknight@starpower.net (e-mail).

Please submit your requests to make oral statements regarding any of the items on the agenda to Dr. McKnight at rmcknight@starpower.net. We would prefer that you make your request for an oral statement at least 5 business days before the meeting, but you may submit your request at the beginning of each meeting day. Reasonable provision will be made to include the scheduled oral statements on the agenda.

If you would like to file a written statement detailing your views on scientific opportunities within the emerging field of HEDP, you may do so anytime before the workshop. To be considered by the IWG, all written comments submitted after the workshop must be received by 5 p.m., Friday, June 11, 2004. You may submit comments electronically or by mail to Dr. McKnight at the following address: Dr. Ronald H. McKnight, HEDP Workshop, 8 Michele Court, Gaithersburg, MD 20878. Telephone: (301) 869-7212. Email: rmcknight@starpower.net. Please be certain to include your name, title, organization, postal address, telephone number, and E-mail address in any written statement.

Authority

The National Science and Technology Council (NSTC) was established under Executive Order 12881 on November 23, 1993. The Committee on Science is chartered under the NSTC. The purpose of the Committee on Science is to advise and assist the NSTC, with emphasis on those federally supported efforts that develop new knowledge in the sciences, mathematics, and engineering.

Ann F. Mazur,
Assistant Director for Budget and Administration.

[FR Doc. 04-10127 Filed 5-3-04; 8:45 am]

BILLING CODE 3170-01-P